DEPARTMENT OF ENERGY

Federal Energy Regulatory Commission

Notice of Intent To File Application for New License

January 14, 2005.

a. Type of Filing: Notice of intent to file application for a new license.

b. Project No.: 6885.

c. Date Filed: December 28, 2004.

d. Submitted By: Richard Moss.

e. Name of Project: Cinnamon Ranch Hydroelectric Project.

f. Location: On Birch Creek and Middle Creek, near the Town of Bishop and Benton, Mono County, California. The project occupies lands of the United States within Inyo National Forest and lands administered by the U.S. Bureau of Land Management.

g. Filed Pursuant to: Section 15 of the Federal Power Act; 18 CFR 16.6 of the Commission's regulations.

h. Effective Date of Current License: January 1, 1960.

i. Expiration Date of Current License: December 31, 2009.

j. The Project Consists of: Two diversion flumes, a 5,940-foot penstock, a powerhouse with one turbine and generator with an installed capacity of 150 kW, access roads and a 5,176-foot long 12-kV transmission line.

k. Pursuant to 18 CFR 16.7, information on the project is available at: Richard Moss, Cinnamon Ranch, 1049 Cinnamon Ranch Road, Bishop, CA 93514, (760) 933-2295.

l. FERC Contact: Ann-Ariel Vecchio, (202) 502-6351, ann-ariel.vecchio@ferc.gov.

m. Pursuant to 18 CFR 16.8, 16.9, and 16.10 each application for a new license and any competing license applications must be filed with the Commission at least 24 months prior to the expiration of the existing license. All applications for license for this project must be filed by December 31, 2007.

n. A copy of this filing is available for review at the Commission in the Public Reference Room or may be viewed on the Commission's Web site at http://www.ferc.gov using the “eLibrary” link. Enter the docket number to access the document excluding the last three digits in the docket number field to access the document. For assistance, contact FERC Online Support at FERCOnlineSupport@ferc.gov or toll-free at 1-866-208-3676, or TTY 202-502-8659. A copy is also available for inspection and reproduction at the address in item k above.

o. Register online at http://www.ferc.gov/docs-filing/esubscription.asp to be notified via email of new filings and issuances related to this or other pending projects. For assistance, contact FERC Online Support as shown in the paragraph above.

Magalie R. Salas,
Secretary.

[FR Doc. E5-292 Filed 1-25-05; 8:45 am]

BILLING CODE 6717-01-P